DEPARTMENT OF LABOR

Occupational Safety and Health Administration

[Docket No. S-777A]

Public Forums on Ergonomics

AGENCY: Occupational Safety and Health Administration (OSHA), Department of Labor.

ACTION: Notice; dates, times, and locations of public forums; additional information on procedures for public forums.

SUMMARY: The Department of Labor is providing additional information on the dates, times, locations, and procedures for the public forums on ergonomics announced in the Federal Register on June 12, 2001 (66 FR 31694).

DATES, TIMES, LOCATIONS: Public Forums: Washington, D.C. area. The public forum in the Washington, D.C. area will take place at George Mason University, Arlington Campus Professional Center, Room 329, 3401 North Fairfax Drive, Arlington, Virginia. The Professional Center is at the Virginia Square/GMU stop on the Metro orange line. The Department of Labor is changing the start time for this public forum. The forum is now scheduled to begin at 9:00 a.m., July 16, 2001. It will continue on July 17, 2001, beginning at 8:30 a.m.

Chicago, Illinois. The forum in Chicago, Illinois will take place at the University of Chicago, Ida Noyes Hall, 1212 East 59th Street, on July 20, 2001, beginning at 9:00 a.m.

Stanford, California. The forum in California will take place at the Kresge Auditorium of Stanford Law School, on the campus of Stanford University in Stanford, California on July 24, 2001, beginning at 9:00 a.m.

Written Forum Statements. Interested persons who file notices of intention to speak at the public forums on ergonomics must submit their written statements in advance. OSHA must receive the statements by July 9, 2001, one week before the first public forum.

ADDRESSES: Written statements may be submitted by mail, facsimile, or electronic means. If your statement includes documentary evidence that has been previously submitted in the OSHA ergonomics rulemaking docket (Docket S-777), please reference the Exhibit Number rather than providing an additional copy.

Mail: Submit three copies of your written statement to: OSHA Docket Office, Docket No. S-777A, U.S. Department of Labor, 200 Constitution Avenue, NW, Room N-2625, Washington, DC 20210, telephone (202) 693-2350. Please note that statements must be mailed early enough to be received by OSHA by July 9, 2001.

Facsimile: If your written statement is 10 pages or fewer, you may fax it to the OSHA Docket Office. The OSHA Docket Office fax number is (202) 693-1648.

Electronic: You may submit your written statement electronically through OSHA's Homepage at www.osha.gov. Please note that you may not attach materials such as studies or journal articles to your electronic statement. If you wish to include such materials, you must submit three copies to the OSHA Docket Office at the address listed above. When submitting such materials to the OSHA Docket Office, you must clearly identify your electronic statement by name, date, and subject, so that we can attach the materials to your electronically submitted statement.

FOR FURTHER INFORMATION CONTACT: Paula White, Director, Directorate of Federal/State Operations, telephone (202) 693-2200, or visit the OSHA Homepage at www.osha.gov.

SUPPLEMENTARY INFORMATION: In order to allow maximum public participation, the Department has determined that individuals should speak for no more than 10 minutes. As noted above, individuals may submit more lengthy written statements and comments. As appropriate, the Department may schedule a larger amount of time for presentations by selected groups of knowledgeable persons. Participants are encouraged to use their oral presentation to summarize and clarify their written submissions. Use of electronic media such as slides or overhead projections will not be permitted, but charts and graphs may be included with the submission of written statements. Following each presentation, a panel may question the presenter on relevant issues.

Persons who file a timely notice of intention to speak by June 29, as described in the June 12, 2001, Federal Register notice (66 FR 31694), will be scheduled to appear to the extent that the allotted time permits. It may not be possible to schedule all interested persons. The statements of those persons not scheduled to speak will be included in the docket. The Department of Labor will notify persons who submit timely notices of intention to speak at a particular forum of the schedule of speakers at that forum. Each participant should plan to be present at the start of the day he or she is scheduled to speak. An Administrative Law Judge will assure that the forums proceed in a fair and orderly manner.

Individuals with disabilities wishing to attend the forums who need special accommodations should contact Veneta Chatmon at (202) 693-1999, or at (877) 889-5627 TTY.

Authority: This notice was prepared under the direction of R. Davis Layne, Acting Assistant Secretary for Occupational Safety and Health. It is issued under sections 4, 6, and 8 of the Occupational Safety and Health Act (29 U.S.C. 653, 655, 657).

Issued at Washington, DC, this 20th day of June, 2001.
R. Davis Layne,
Acting Assistant Secretary of Labor.

[FR Doc. 01-15841 Filed 6-21-01; 8:45 am]

BILLING CODE 4510-26-M